DEPARTMENT OF HEALTH AND HUMAN SERVICES

National Institutes of Health

Report on Carcinogens Webinar on Pentachlorophenol; Notice of Public Webinar and Registration Information

SUMMARY: The National Toxicology Program (NTP) announces a public webinar, “Human cancer studies on exposure to pentachlorophenol (PCP): Differentiating potential cancer effects of PCP exposure from effects due to occupational co-exposures or PCP contaminants.” The Office of the Report on Carcinogens (ORoC), Division of the NTP (DNTP), National Institute of Environmental Health Sciences (NIEHS) will hold the webinar using Adobe® Connect™, and the public can register to attend.

DATES:

Webinar: April 11, 2013, 12:30 p.m. to approximately 5:00 p.m. Eastern Daylight Time (EDT).

Pre-Registration for Webinar: March 8, 2013 to April 8, 2013.

ADDRESSES: Webinar Web page: The agenda, speaker abstracts, registration, and other meeting materials are at http://ntp.niehs.nih.gov/go/pcpwebinar.

FOR FURTHER INFORMATION CONTACT: Dr. Ruth M. Lunn, Director, ORoC, DNTP, NIEHS, P.O. Box 12233, MD K2-14, Research Triangle Park, NC 27709. Phone: (919) 316-4637; Fax: (301) 480-2970, Email: lunn@niehs.nih.gov. Hand Delivery/Courier: 530 Davis Drive, Room 2138, Morrisville, NC 27560.

SUPPLEMENTARY INFORMATION:

Background: The Report on Carcinogens (RoC) is a congressionally mandated, science-based, public health report that identifies agents, substances, mixtures, or exposures (collectively called “substances”) in our environment that are cancer hazards for people living in the United States. The NTP prepares the RoC on behalf of the Secretary of Health and Human Services following an established, four-part process (http://ntp.niehs.nih.gov/go/rocprocess).

PCP, including its sodium salt, is a chlorinated aromatic compound that is used primarily as a wood preservative in the United States. It was selected as a candidate substance following solicitation of public comment and review by the NTP Board of Scientific Counselors on June 21-22, 2012 (http://ntp.niehs.nih.gov/go/9741) (for more information on the status of NTP review of PCP see http://ntp.niehs.nih.gov/go/37897).

The objective of the webinar is to provide scientific input to the ORoC on issues related to its approach for evaluating the epidemiologic studies on exposure to PCP and not to receive recommendations from invited speakers or the public on whether or not PCP should be listed in the RoC. The webinar will consist of (1) four presentations, each of which will be followed by a short question and answer period specific for the presentation, and (2) a discussion session across presentations. The goals of the individual presentations are (1) to identify occupational co-exposures and PCP components or contaminants in human epidemiologic studies of exposure to PCP, (2) to identify which co-exposures should be considered as potential confounders, and (3) to discuss the methods used in the epidemiologic studies to evaluate confounding.

Webinar and Registration: The webinar is scheduled for April 11, 2013, from 12:30 to approximately 5 p.m. e.d.t. The webinar may end early if the presentations and general discussion period are finished. The public may register for the webinar beginning March 8, 2013, through April 8, 2013, at http://ntp.niehs.nih.gov/go/pcpwebinar. There will be 50 connections available on a first-come, first-served basis for registrants. Registrants will receive instructions by email to access the webinar (via Adobe® Connect™) on or before April 9, 2013.

The preliminary agenda, list of speakers, and abstracts of the presentations should be posted on the NTP Web site (http://ntp.niehs.nih.gov/go/pcpwebinar) by March 26, 2013. Registrants are encouraged to access the webinar Web page to stay abreast of the most current information regarding this event. Any updates will be posted to the Web site.

Public Participation: Time will be set aside following each presentation and during the general discussion period after the talks are finished for the public to ask questions or make brief remarks. Instructions for participating in the meeting via Adobe® Connect™ will be included in the information for accessing the webinar. Individuals with disabilities who need accommodation to participate in this event should contact Dr. Lunn. TTY users should contact the Federal TTY Relay Service at 800-877-8339. Requests should be made at least five business days in advance of the event.

Background Information on the RoC: Published biennially, each edition of the RoC is cumulative and consists of substances newly reviewed in addition to those listed in previous editions. The 12th RoC, the latest edition, was published on June 10, 2011 (available at http://ntp.niehs.nih.gov/go/roc12). The 13th RoC is under development. For each listed substance, the RoC contains a substance profile, which provides information on: Cancer studies that support the listing—including those in humans, animals, and studies on possible mechanisms of action—information about potential sources of exposure to humans, and current Federal regulations to limit exposures.

Dated: March 4, 2013.
John R. Bucher,
Associate Director, National Toxicology Program.

[FR Doc. 2013-05405 Filed 3-7-13; 8:45 am]

BILLING CODE 4140-01-P